DEPARTMENT OF THE INTERIOR

Bureau of Land Management

[WY-921-1430-ET; WYW 67917]

Public Land Order No. 7458; Revocation of Bureau of Land Management Order Dated August 17, 1948, Wyoming

AGENCY: Bureau of Land Management, Interior.

ACTION: Public Land Order.

SUMMARY: This order revokes, in its entirety, a Bureau of Land Management order insofar as it affects 7,016.29 acres of public lands withdrawn for the Bureau of Reclamation's Missouri Basin Project, Big Horn Unit No. 3. The lands are no longer needed for reclamation purposes. Of the lands included in this revocation, 4,536.29 acres will not be opened to surface entry and mining until the completion of a planning review. These lands have been and will remain open to mineral leasing. The remaining 2,480 acres have been conveyed out of Federal ownership and the revocation on this portion is a record-clearing action only.

EFFECTIVE DATE: July 14, 2000.

FOR FURTHER INFORMATION CONTACT: Janet Booth, BLM Wyoming State Office, 5353 N. Yellowstone Road, P.O. Box 1828 (MS-921), Cheyenne, Wyoming 82003, 307-775-6124.

By virtue of the authority vested in the Secretary of the Interior by Section 204 of the Federal Land Policy and Management Act of 1976, 43 U.S.C. 1714 (1994), it is ordered as follows:

1. Bureau of Land Management Order dated August 17, 1948, which withdrew the following described lands for the Bureau of Reclamation's Missouri Basin Project, Big Horn Unit 3, is hereby revoked in its entirety:

Sixth Principal Meridian

T. 49 N., R. 92 W.,

Secs. 7, 18, 19, 30, and 31.

T. 49 N., R. 93 W.,

Sec. 12, NW¼NW¼, S½NW¼, SW¼, NW¼SE¼, and S½SE¼

Secs. 13, 24, 25, and 36.

The areas described aggregate 7,016.29 acres in Big Horn County.

2. The following described public lands, which are included in paragraph 1, will not be opened to until a planning review and analysis are completed to determine if any of these lands need special designation and protection or have exchange potential:

Sixth Principal Meridian

T. 49 N., R. 92 W.,

Sec. 18, lots 6 to 9, inclusive;

Sec. 19, lots 5 to 13, inclusive;

Sec. 30, lots 5 to 18, inclusive;

Sec. 31, lots 5 to 15, inclusive.

T. 49 N., R. 93 W.,

Sec. 12, NW¼NW¼, S½NW¼, SW¼, NW¼SE¼, and S½SE¼;

Secs. 13, 24, 25, and 36.

The area described contains 4,536.29 acres in Big Horn County.

3. The remaining lands, which comprise 2,480 acres, have been conveyed out of Federal ownership and this is a record-clearing action only. A more specific legal description of these private lands may be obtained by contacting the address or phone number listed above.

Dated: June 26, 2000.
Sylvia V. Baca,
Assistant Secretary of the Interior.

[FR Doc. 00-17855 Filed 7-13-00; 8:45 am]

BILLING CODE 4310-22-P